DEPARTMENT OF DEFENSE

Department of Army; Corps of Engineers

Intent To Prepare a Draft Environmental Impact Statement for the Millstone River Basin, New Jersey Flood Control and Ecosystem Restoration Feasibility Study

AGENCY: Department of the Army, U.S. Army Corps of Engineers, DoD.

ACTION: Notice of intent.

SUMMARY: The U.S. Army Corps of Engineers (USACE), New York District, announces its intent to prepare a Draft Environmental Impact Statement (DEIS) pursuant to the National Environmental Policy Act (NEPA), in accordance with the Council on Environmental Quality (CEQ) Regulations for Implementing the Procedural Provisions of NEPA and the Department of the Army, USACE Procedures for Implementing NEPA, to assess the environmental impacts of a proposed flood control and ecosystem restoration study in the Millstone River Basin in New Jersey. This study is authorized by a resolution of the Committee on Transportation and Infrastructure, U.S. House of Representatives, adopted August 5, 1999. The purpose of this study is to identify and evaluate possible solutions for flood control and ecosystem restoration and to determine the extent of Federal interest.

DATES: Public scoping meeting on November 14, 2002, 7:30 PM —9:00 PM, to be held at the Borough of Manville Courtroom, 325 North Main Street, Manville, New Jersey, 08835.

FOR FURTHER INFORMATION CONTACT: Questions about the proposed action and DEIS can be answered by: Ms. Megan B. Grubb, (212) 264-5759, U.S. Army Engineer District, New York, Planning Division, Attn: CENAN-PL-EA, 26 Federal Plaza, New York, NY 10278-0090.

SUPPLEMENTARY INFORMATION:

1. Project Location

This notice announces the initiation of a feasibility phase study for flood control and ecosystem restoration purposes at Millstone River Basin, New Jersey. This study area is located in parts of the New Jersey counties of Mercer, Middlesex, Monmouth, Hunterdom, and Somerset, and is bounded on the north by Morris County, on the east by Middlesex County, on the west by Hunterdon County and on the south by Mercer County. The study area is located in north-central New Jersey halfway between Philadelphia and New York City. The project study area consists of approximately 238 square miles of developed commercial and residential buildings as well as natural habitat.

2. Project Authorization and History

The Millstone River Basin Study is authorized by a resolution of the Committee on Transportation and Infrastructure, U.S. House of Representatives, adopted August 5, 1999. The USACE completed an initial Reconnaissance report entitled “Millstone River Basin, New Jersey—Reconnaissance Study For Flood Control & Ecosystem Restoration” in September 2000. This report determined that there may be potential Federal interest in flood control and ecosystem restoration measures for the Millstone River Basin. Additional investigations have demonstrated Federal interest and the need for further study of the Millstone River Basin area, in the nature of a detailed feasibility study. The non-Federal sponsor, the New Jersey Department of Environmental Protection (NJDEP) signed an agreement on 14 March 2002 to equally share the cost of the feasibility study with the USACE. The NJDEP in turn will act on behalf of all other local municipalities and jurisdictions as the primary non-Federal sponsor.

3. Project Need

The Millstone River Basin has a history of severe flood damages. Low-lying residential and commercial structures in the area are experiencing flooding caused by intense thunderstorms, northeasters, and hurricanes. Evaluation of flooding problems in the Millstone River basin has identified the Borough of Manville as the most significant problem area in the Basin. Manville was selected for detailed consideration in this feasibility investigation. A number of improvement measures would be evaluated during the feasibility study. These may include such measures as: floodwalls, levees, pump stations, gates and ecological enhancement. Non-structural measures such as flood proofing, ring walls, raising or acquisitions will also be considered.

The Millstone River Basin has a significant problem with ecosystem degradation. The structure and function of the natural systems in the Basin and the Millstone River's ability to perform critical local and regional ecological functions have been greatly reduced due to change in land use patterns and practices. A number of improvement measures would be evaluated during the feasibility study. The types of ecosystem restoration projects to be formulated could include: Lake Restoration and Watershed Management, Comprehensive Riparian System Restoration, Disturbed Land Restoration, and Ecological Enhancement in association with a Flood Control Project.

4. DEIS Scope

The intended DEIS will evaluate the potential environmental and cultural resources impacts associated with the proposed alternatives for flood control and ecosystem restoration.

5. Public Involvement

The USACE has scheduled a public environmental scoping meeting for November 14, 2002 (see DATES) to discuss the scope of the DEIS and data gaps. The public scoping meeting place, date and time will be advertised in advance in local newspapers, and meeting announcement letters will be sent to interested parties. The public will have an opportunity to provide written and oral comments at the public scoping meeting. Written comments may also be submitted via mail and should be directed to Ms. Megan B. Grubb at the address listed above. The USACE plans to issue the DEIS in the spring of 2005. The USACE will announce availability of the draft in the Federal Register and other media, and will provide the public, organizations, and agencies with an opportunity to submit comments, which will be addressed in the final EIS.

Luz D. Ortiz,
Army Federal Register Liaison Officer.

[FR Doc. 02-27719 Filed 10-30-02; 8:45 am]

BILLING CODE 3710-06-M